DEPARTMENT OF HOUSING AND URBAN DEVELOPMENT

[Docket No. FR-4729-N-01]

Notice of Annual Factors for Determining Public Housing Agency Ongoing Administrative Fees for the Housing Choice Voucher Program and Moderate Rehabilitation Programs

AGENCY: Office of the Assistant Secretary for Public and Indian Housing, HUD.

ACTION: Notice.

SUMMARY: This notice announces the Federal Fiscal Year (FY) 2002 monthly on-going administrative fee amount paid to public housing agencies (PHAs) administering tenant-based assistance under the Housing Choice Voucher Program, and project-based assistance under the Project-based Certificate Program, the Project-based Voucher Program, and the Moderate Rehabilitation Programs (including Moderate Rehabilitation Single Room Occupancy). The notice also describes other fees, in addition to the on-going administrative fees, that may be approved by HUD for PHA costs of program administration.

EFFECTIVE DATE: April 15, 2002.

FOR FURTHER INFORMATION CONTACT: Gerald J. Benoit, Director, Real Estate and Housing Performance Division, Office of Public and Assisted Housing Delivery, Office of Public and Indian Housing, Department of Housing and Urban Development, Room 4210, 451 Seventh Street, SW., Washington, DC 20410-8000; telephone number (202) 708-0477 (this is not a toll-free telephone number). Hearing or speech impaired individuals may access this number via TTY by calling the toll-free Federal Information Relay Service at 1-800-877-8339.

SUPPLEMENTARY INFORMATION:

I. Applicability

HUD pays administrative fees to a PHA that administers housing assistance programs under Section 8 of the United States Housing Act of 1937 (42 U.S.C. 1437f) in accordance with the annual contributions contract between HUD and the PHA. This notice establishes FY 2002 on-going administrative fees for public housing agencies (PHAs) administering the following programs: tenant-based assistance under the Housing Choice Voucher Program, project-based assistance under the Project-based Certificate Program, the Project-based Voucher Program, and the Moderate Rehabilitation Program (including Moderate Rehabilitation Single Room Occupancy).

The FY 2002 on-going administrative fee amounts in this notice are used to calculate fees earned by a PHA for unit months in Federal FY 2002; that is, for unit months from October 1, 2001 to September 30, 2002. HUD will use the on-going fee amount in this notice for review and approval of year-end financial statements for PHA fiscal years ending on December 31, 2001, March 31, 2002, June 30, 2002, and September 30, 2002. However, this notice only establishes on-going fee amount used to calculate the PHA's administrative fee for the portion of the PHA fiscal year that falls in Federal FY 2002. On-going fees for unit months in Federal FY 2001 are calculated in accordance with the fee notice for FY 2001 published in the Federal Register on June 11, 2001 (66 FR 31281).

The PHA must use the on-going fee amounts specified in this notice to project earned administrative fees in the annual PHA budget.

II. Statutory Background

In accordance with the HUD Appropriation Act for FY 2002 (as was the case in fiscal years 1999, 2000, and 2001), PHA administrative fees are determined in accordance with Section 202 of the HUD Appropriation Act for Federal FY 1997 (Pub. L. 104-204, 110 Stat. 2874, approved September 26, 1996), which established the requirements for calculating PHA on-going administrative fees in effect immediately before enactment of the Quality Housing and Work Responsibility Act of 1998. (Pub. L. 105-276, 115, 2461, approved October 21, 1998).

As in prior fiscal years, under the pre-FY 99 administrative fee requirements, the on-going administrative fees for the first 600 units in a PHA's Housing Choice Voucher Program is an amount that is 7.5 percent of the base amount for the first 600 units, 7.0 percent of the base amount for each additional voucher above 600 units and 3.0 percent of the base amount for a PHA owned unit. The base amount is adjusted annually.

This notice specifies the on-going administrative fee for PHAs administering the Housing Choice Voucher Program or the Moderate Rehabilitation Programs (including Moderate Rehabilitation Single Room Occupancy) during FY 2002.

III. On-Going Monthly Administrative Fee

(1) How on-going administrative fees are calculated. A PHA is paid an on-going administrative fee for each unit month for which a dwelling unit is covered by a housing assistance payments contract on the first day of the month. In each case, the on-going administrative fee is a specified percentage of a defined “base amount”.

(2) The Base Amount. The amount of the per unit on-going administrative fee is adjusted each year based on changes in wage data or other objectively measurable data, as determined by HUD, that reflect the costs of administering the program. At this time, this adjustment is implemented by adjusting the base amount to reflect average local government wages as measured by the most recent Bureau of Labor Statistics data on local government wages (ES-202 series).

(3) Percentage applied to adjusted base amount. Under the fee system, the following percentages are applied to the adjusted base amount:

(i) For all units except PHA-owned.

(A) 600 unit threshold. 7.5 percent of the adjusted “base amount” for the first 600 units in a covered program. This threshold is applied separately to determine the on-going fees earned:

(1) For the PHA's Tenant-based Voucher Program, Project-based Voucher Program and Project-based Certificate Program; and

(2) For the PHA's Moderate Rehabilitation Programs (including Moderate Rehabilitation Single Room Occupancy).

(B) Units exceeding 600 unit threshold. 7.0 percent of the adjusted “base amount” for each additional unit in the program above the 600-unit threshold.

(ii) For PHA-owned units. 3.0 percent of the adjusted “base amount for each PHA-owned unit.

IV. Other Administrative Fees

HUD may approve administrative fees in addition to the on-going administrative fee. The types of additional fees that are currently permitted are described in PIH Notice 2002-7 (HA), issued March 12, 2002.

1. Hard-to-House Fee. HUD may pay a special fee to a PHA for costs incurred in assisting families who experience difficulty, as determined by HUD, in finding or leasing appropriate housing under the Housing Choice Voucher Program. Hard to house fees include the following:

(a) Hard-to-House Fees for Large Families. The PHA will be paid $75 every time a hard-to-house family is actually housed in a unit other than the family's pre-program unit.

(b) Hard-to-House Fee for a Family that Includes a Person with Disabilities. The PHA will be paid $75 every time a family that includes a person with disabilities is actually housed in a unit other than the family's preprogram unit. HUD pays the PHA a hard-to-house fee for the extra effort provided by the PHA in assisting a family that includes a person with disabilities to enable them to find appropriate housing.

2. Fee for Extraordinary Costs. HUD may pay a special one-time fee for extraordinary costs incurred by the PHA in the operation of the Housing Choice Voucher Program, as approved by the Assistant Secretary for Public and Indian Housing.

3. Housing Conversion Actions. HUD provides housing choice voucher assistance to assist eligible residents that are affected by several different types of owner or HUD actions (collectively described as “housing conversion actions”). When a PHA receives a special allocation of voucher funding from HUD for a housing conversion action, the PHA will receive a fee. The amount of the fee is $250 per unit for the total number of occupied units covered by the housing conversion actions; preservation prepayments; project-based opt-outs; HUD enforcement actions, or HUD property disposition.

Other voucher conversions actions, such as public housing replacements or Section 8 moderate rehabilitation contract expirations, are not eligible for the fee for the housing conversion action.

4. Preliminary Fees. A PHA may earn a preliminary fee of $500 per unit as reimbursement for preliminary expenses the PHA incurred in the first year the PHA administers the first increment of funding for assistance under the Housing Choice Voucher Program.

5. Lead Based Paint Fee for Initial Clearance Test. HUD pays a PHA $150 to conduct the initial lead-based paint hazard clearance test on paint stabilization efforts in a unit occupied by a family with a child under the age of six in connection with the PHA's housing quality standards inspections before and during assisted occupancy. Paint stabilization is required at 24 CFR part 35. The initial testing is performed on units that have deteriorated paint above the de minimis level specified in the lead-based paint regulations following repair of the deteriorated paint. See 24 CFR 35.1330(a)(3).

6. Lead Based Paint Risk Assessment Fee. The PHA must conduct a risk assessment of a unit in which a child under the age of six, with an environmental intervention blood-lead level (EIBLL), has lived at the time the child's blood was last sampled, unless an evaluation has already been conducted by the public health department. HUD pays a PHA $350 each time a risk assessment of a unit is conducted on behalf of a family with a child under the age of six with an EIBLL and where the family is assisted by the Housing Choice Voucher Program. The EIBLL must be identified by the local health department or other medical provider during the time the family resided in the unit.

V. On-Going Administrative Fee Amounts

A schedule of the monthly per unit on-going administrative fee amounts for FY 2002 is attached to this Notice. The schedule shall be used to determine the amount of FY 2002 on-going administrative fees in PHA budgets and fiscal year-end financial statements.

The schedule establishes the on-going administrative fee amounts for each fair market rent (FMR) area. If a PHA's jurisdiction includes more than one FMR area (e.g., for a PHA with State-wide jurisdiction), the PHA's earned fees for administration of dwelling units leased in each FMR area are calculated using the on-going administrative fee amounts on the schedule for the FMR area where the units are actually located.

The schedules show the monthly on-going administrative fee amounts a PHA earns for each unit under a housing assistance payment contract on the first day of the applicable month during Federal FY 2002. On-going administrative fees earned for the portion of a PHA's fiscal year that falls in the preceding FY (e.g., the first 3 quarters of a fiscal year ending December 31, 2001) shall be determined in accordance with the notice published in the Federal Register on June 11, 2001 (66 FR 31281).

The schedule is arranged in three columns (designated as Columns A, B, and C). As described in more detail below, Column A establishes the on-going administrative fee amount for the first 600 units (except PHA-owned units) in the PHA's Voucher Program or Moderate Rehabilitation Program, Column B establishes the on-going administrative fee amount for additional units (except PHA-owned units) in the PHA's Voucher or Moderate Rehabilitation Program, and Column C establishes the on-going administrative fee amount for PHA-owned units.

Column A: On-going administrative fees for 600 units or less. The amount in Column A is the monthly per unit fee amount used to compute the FY 2002 on-going administrative fees earned by the PHA:

1. For the first 600 units (up to 7,200 unit months) assisted in the PHA's Housing Choice Voucher Program, including project-based voucher and project-based certificate units administered by the PHA.

2. For the first 600 units (up to 7,200 unit months) assisted in the PHA's Moderate Rehabilitation Program including the Moderate Rehabilitation Single Room Occupancy Program.

How to calculate the PHA's on-going administrative fees earned.

The monthly on-going administrative fee is computed by multiplying the number of unit months that were under a housing assistance payments contract during FY 2002 by the monthly per unit on-going fee amount in Column A (up to a maximum of 7,200 unit months during FY 2002). The maximum number of unit months for which the Column A fee amount may be used depends on the PHA FY end.

Depending on the PHA's fiscal year end, a PHA must use the applicable maximum number of Column A unit months to calculate its total on-going administrative fee income for FY 2002:

PHA fiscal year end | Maximum number of unit months
December 31, 2001 | Up to 1,800.
March 31, 2002 | Up to 3,600.
June 30, 2002 | Up to 5,400.
September 30, 2002 | Up to 7,200.

Column B: On-going administrative fees for unit months in excess of the Column A unit months. The amount in Column B is the monthly per unit fee amount used to compute the FY 2002 on-going administrative fees earned by the PHA for any unit months in excess of Column A unit months (not including unit months for any PHA-owned units). The PHA's total Column B fee income is computed by multiplying the applicable Column B amount times the number of excess unit months. Otherwise stated, the Column B amount is used to calculate PHA's earned administrative fees for total FY 2002 unit months minus (1) the number of unit months for PHA-owned units, and (2) the number of Column A unit months.

Column C: On-going administrative fees for PHA-Owned units. The administrative fee earned for administration of assistance in FY 2002 to families residing in PHA-owned dwelling units is calculated by multiplying the monthly per unit fee amount in Column C times the number of unit months leased in PHA-owned units. Column A and Column B fee amounts are not used for PHA-owned units.

On-going administrative fees for units under portability. The on-going administrative fee amounts used for reimbursing receiving PHAs for all portable units will be determined by using the monthly per unit on-going administrative fee amounts in column B for the initial PHA. The receiving PHA administering the portable housing choice voucher will receive 80 percent of the Column B amount and the initial PHA will receive 20 percent of the Column B amount, unless otherwise agreed upon by both PHAs.

IV. Findings and Certifications

Paperwork Reduction Act Statement

The information collection requirements contained in this notice have been approved by the Office of Management and Budget (OMB) under the Paperwork Reduction Act of 1995 (44 U.S.C. 3501-3520), and have been assigned OMB control number 2577-0149. An agency may not conduct or sponsor, and a person is not required to respond to, a collection of information unless the collection displays a valid control number.

Environmental Impact

In accordance with 24 CFR 50.19(c)(6) of the HUD regulations, the policies and procedures contained in this notice set forth rate determinations and related external administrative requirements and procedures which do not constitute a development decision that affects the physical condition of specific project areas or building sites, and therefore are categorically excluded from the requirements of the National Environmental Policy Act.

Executive Order 13132, Federalism

Executive Order 13132 (captioned “Federalism”) prohibits, to the extent practicable and permitted by law, an agency from promulgating a regulation that has federalism implications and either imposes substantial direct compliance costs on State and local governments and is not required by statute, or preempts State law, unless the relevant requirements of section 6 of the Executive Order are met. None of the provisions in this notice will have federalism implications and they will not impose substantial direct compliance costs on State and local governments or preempt State law within the meaning of the Executive Order. As a result, the notice is not subject to review under the Order.

Catalog of Federal Domestic Assistance Number

The Catalog of Federal Domestic Assistance Number for this program is 14.850.
Dated: April 5, 2002.
Michael Liu,
Assistant Secretary for Public and Indian Housing.

[FR Doc. 02-9049 Filed 4-12-02; 8:45 am]

BILLING CODE 4210-33-P